DEPARTMENT OF EDUCATION

[Docket No.: ED-2024-SCC-0003]

Agency Information Collection Activities; Submission to the Office of Management and Budget for Review and Approval; Comment Request; Migrant Student Information Exchange User Application Form

AGENCY: Office of Elementary and Secondary Education (OESE), Department of Education (ED).

ACTION: Notice.

SUMMARY: In accordance with the Paperwork Reduction Act (PRA) of 1995, the Department is proposing an extension without change of a currently approved information collection request (ICR).

DATES: Interested persons are invited to submit comments on or before April 23, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Benjamin Starr, 202-245-8116.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Migrant Student Information Exchange User Application Form.

OMB Control Number: 1810-0686.

Type of Review: An extension without change of a currently approved ICR.

Respondents/Affected Public: State, Local, and Tribal Governments.

Total Estimated Number of Annual Responses: 732.

Total Estimated Number of Annual Burden Hours: 366.

Abstract: Regulations for the Migrant Information Exchange (MSIX), effective on June 9, 2016, were issued by the U.S. Department of Education (the Department). The MSIX, a nationwide, electronic records exchange mechanism mandated under Title I, Part C of the Elementary and Secondary Education Act (ESEA), as amended. As a condition of receiving a grant of funds under the Migrant Education Program (MEP), each State educational agency (SEA) is required to collect, maintain, and submit minimum health and education-related data to MSIX within established timeframes. MSIX is designed to facilitate timely school enrollment, grade and course placement, accrual of secondary course credits and participation in the MEP for migratory children. Additionally, the regulations help the Department to determine accurate migratory child counts and meet other MEP reporting requirements. The MEP is authorized under sections 1301-1309 in Title I, Part C of the ESEA, as amended. MSIX and the minimum data elements (MDEs) are authorized specifically under section 1308(b) of the ESEA, as amended.

The Department is requesting approval to extend the 1810-0686 information collection that supports statutory requirements for data collection under Title I, Part C—MEP. The purpose of the MSIX User Application Form is to collect user directory data to verify the identity of users in order to grant access to the MSIX system for the purpose of transferring migratory student data. The application collects information on an MSIX users' identity, title/position, work address, work telephone, email, and role in MSIX.

Dated: March 14, 2024.
Kun Mullan,
PRA Coordinator, Strategic Collections and Clearance, Governance and Strategy Division, Office of Chief Data Officer, Office of Planning, Evaluation and Policy Development.

[FR Doc. 2024-05780 Filed 3-18-24; 8:45 am]

BILLING CODE 4000-01-P